Title 3—

The President

Proclamation 8275 of July 23, 2008

60th Anniversary of the Integration of the United States Armed Forces

By the President of the United States of America

A Proclamation

The United States is founded upon the belief that every person has unalienable rights and matchless value. Throughout our Nation's history, brave patriots have made great sacrifices to protect this ideal and to advance the cause of freedom around the world. On the 60th anniversary of the integration of the United States Armed Forces, we pay tribute to all our service members and veterans, and we underscore our Nation's commitment to equality.

On July 26, 1948, President Harry Truman signed Executive Order 9981, declaring “that there shall be equality of treatment and opportunity for all persons in the armed services without regard to race, color, religion or national origin.” Today, members of our Armed Forces come from many different backgrounds and cultures and are answering the call to service with bravery, decency, and resolve.

Our Nation has long drawn strength from the diversity of its citizens. Groups such as the Buffalo Soldiers, the 442nd Regimental Combat Team, the Tuskegee Airmen, and the “Borinqueneers” risked their lives while proudly wearing the uniform of the United States. By performing their missions with integrity and honor, they highlighted the power of liberty, helped open the door of opportunity, and earned the respect and admiration of a grateful Nation.

On this anniversary, we celebrate the legacy of those who refused to allow adversity to diminish their spirit or extinguish their drive to help America live up to its promise of equality for all people. We also commemorate our veterans and service members whose noble and selfless actions have inspired generations of men and women to follow in their footsteps and made our country a more hopeful place.

NOW, THEREFORE, I, GEORGE W. BUSH, President of the United States of America, by virtue of the authority vested in me by the Constitution and laws of the United States, do hereby proclaim July 26, 2008, as the 60th Anniversary of the Integration of the United States Armed Forces and urge all Americans to observe this day with appropriate programs, ceremonies, and activities.

IN WITNESS WHEREOF, I have hereunto set my hand this twenty-third day of July, in the year of our Lord two thousand eight, and of the Independence of the United States of America the two hundred and thirty-third.

[FR Doc. 08-1468

Filed 07-25-08; 8:45 am]

Billing code 3195-W8-P